DEPARTMENT OF COMMERCE

Foreign-Trade Zones Board

[Docket 15-2003]

Foreign-Trade Zone 92—Harrison County, Mississippi, Expansion of Manufacturing Authority—Subzone 92D, Chevron Products Company, Pascagoula, MS

An application has been submitted to the Foreign-Trade Zones Board (the Board) by the Mississippi Coast Foreign-Trade Zone, Inc., grantee of FTZ 92, requesting authority on behalf of Chevron Products Company (Chevron), to expand the scope of manufacturing activity conducted under zone procedures within Subzone 92D at the Chevron oil refinery complex in Pascagoula, Mississippi. The application was submitted pursuant to the provisions of the Foreign-Trade Zones Act, as amended (19 U.S.C. 81a-81u), and the regulations of the Board (15 CFR part 400). It was formally filed on March 11, 2003.

Subzone 92D (3,100 acres, 1,200 employees) was approved by the Board in 1995 and is located on the Mississippi Sound, east of Pascagoula, some 35 miles east of Gulfport, in Jackson County, Mississippi. Authority was granted for the manufacture of fuel products and certain petrochemical feedstocks and refinery by-products (Board Order 747, 60 FR 32503, June 22, 1995, as amended by Board Order 1116, 65 FR 52696, August 30, 2000).

The refinery (310,000 barrels per day) is used to produce fuels and petrochemical feedstocks. The expansion request involves several modified and upgraded processing units. The reconfigured facilities will increase the overall capacity of the refinery to 360,000 BPD. The feedstocks used and product slate will remain unchanged. Some 95 percent of the crude oil will be sourced from abroad.

Zone procedures would exempt the new refinery facilities from Customs duty payments on the foreign products used in its exports. Some 15 percent of the plant's shipments are exports. On domestic sales, the company would be able to choose the Customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St. NW., Washington, DC 20005; or

2. Submissions Via the U.S. Postal Service: Foreign-Trade Zones Board, U.S. Department of Commerce, FCB—Suite 4100W, 1401 Constitution Ave. NW., Washington, DC 20230. The closing period for their receipt is May 19, 2003. Rebuttal comments in response to material submitted during the foregoing period may be submitted during the subsequent 15-day period (to June 2, 2003).

A copy of the application and accompanying exhibits will be available for public inspection at the Office of the Foreign-Trade Zones Board's Executive Secretary at the first address listed above, and at the Bureau of Customs and Border Protection, 535 Delmas Avenue, Suite 2, Pascagoula, MS 39567.

Dated: March 11, 2003.
Dennis Puccinelli,
Executive Secretary.

[FR Doc. 03-6483 Filed 3-18-03; 8:45 am]

BILLING CODE 3510-DS-P